DEPARTMENT OF ENERGY

Federal Energy Regulatory Commission

Notice of Non-Project Use of Project Lands and Waters and Soliciting Comments, Motions To Intervene, and Protests

October 4, 2001.

Take notice that the following application has been filed with the Commission and is available for public inspection:

a. Application Type: Non-Project Use of Project Lands and Waters.

b. Project No: 2232-430.

c. Date Filed: September 7, 2001.

d. Applicant: Duke Energy Corporation.

e. Name of Project: Catawba Wateree Hydroelectric Project.

f. Location: On Lake Norman at the Smithstone Subdivision, in Lincoln County, North Carolina. The project does not utilize federal or tribal lands.

g. Filed Pursuant to: Federal Power Act, 16 U.S.C. 791(a)-825(r).

h. Applicant Contact: Mr. E.M. Oakley, Duke Energy Corporation, P.O. Box 1006 (EC12Y), Charlotte, NC 28201-1006. Phone: (704) 382-5778.

i. FERC Contact: Any questions on this notice should be addressed to Brian Romanek at (202) 219-3076, or e-mail address: brian.romanek@ferc.fed.us.

j. Deadline for filing comments and/or motions: November 5, 2001.

All documents (original and eight copies) should be filed with David P. Boergers, Secretary, Federal Energy Regulatory Commission, 888 First Street, NE., Washington DC 20426. Comments, protests and interventions may be filed electronically via the Internet in lieu of paper. See, 18 CFR 385.2001(a)(1)(iii) and the instructions on the Commission's web site under the “e-Filing” link.

Please include the project number (2232-430) on any comments or motions filed.

k. Description of Proposal: Duke Energy Corporation proposes to lease to Smithstone Properties, LLC., one parcel of project land containing 0.87 acre for the construction of 25 boat slips. The boat slips would provide access to the reservoir for residents of the Smithstone Subdivision. Approximately 490 linear feet of shoreline will be stabilized with rip rap. No dredging is proposed.

l. Locations of the Application: Copies of this filing are on file with the Commission and are available for public inspection. This filing may also be viewed on the Web at http://www.ferc.gov using the “RIMS” link, select “Docket# ” and follow the instructions (call 202-208-2222 for assistance).

o. Individuals desiring to be included on the Commission's mailing list should so indicate by writing to the Secretary of the Commission.

p. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

q. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

r. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-25495 Filed 10-10-01; 8:45 am]

BILLING CODE 6717-01-P